DEPARTMENT OF TRANSPORTATION

Federal Transit Administration

[Docket No. FTA-2025-0134]

Rescission of the National Transit Database Weekly Reference Reporting Requirement

AGENCY: Federal Transit Administration (FTA), Department of Transportation (DOT).

ACTION: Final notice; response to comments.

SUMMARY: This notice finalizes and responds to comments on the proposed rescission of the National Transit Database's (NTD) Weekly Reference (WE-20) reporting requirement.

DATES: Applicable date: January 15, 2026.

FOR FURTHER INFORMATION CONTACT: Chelsea Champlin, National Transit Database Program Manager, FTA Office of Budget and Policy, 202-366-4000, chelsea.champlin@dot.gov.

SUPPLEMENTARY INFORMATION:

I. Background

Congress established the NTD to be the Nation's primary source for information and statistics on the transit systems of the United States. During the COVID-19 pandemic, FTA found it did not have sufficient and timely data on transit ridership or transit service levels to inform decision-makers during the rapidly changing crisis situation. To better understand changes in the transit industry on a timely basis, FTA went through the notice and comment process (Docket number FTA-2022-0018) pursuant to 49 U.S.C. 5334(k) to, among other things, enable FTA to collect additional data from a sample set of modal reports from across the universe of full, reduced, tribal, and rural reporters on a weekly reference WE-20 Form. FTA finalized the WE-20 reporting requirements in March 2023 (88 FR 13497).

Although the WE-20 reporting requirement provided important data as the country recovered from the pandemic, it is not required by statute, and after two years of experience with this data collection, FTA determined the WE-20 reporting requirement no longer offers sufficient value relative to the administrative burden on transit agencies and is inconsistent with this Administration's deregulatory priorities.

II. Proposed Recission of the Weekly Reference Reporting Requirement (WE-20) and Responses to Comments

Pursuant to 49 U.S.C. 5334(k), FTA published a notice in the Federal Register on November 18, 2025 (90 FR 51809) requesting comments on the proposed recission of the WE-20 reporting requirement. The comment period closed on December 2, 2025. FTA received five comments in support (including three who expressed strong support) of the proposal to rescind the required weekly NTD reporting requirement. Comments were received from three public transit agencies, a consortium consisting of five State Departments of Transportation, and one transportation association. Two of the comments in support of the change justified the recission by quantifying the time the reporting took them away from other critical work, including transit operations, planning, and analysis. In addition, the consortium specifically noted the filing burden on rural states, where small transit operators have limited staff to attend to administrative and regulatory compliance. FTA received no comments in opposition or providing additional information.

FTA Response: FTA appreciates the support for this change and will move forward with the rescission as proposed. The proposed rescission takes effect immediately upon publication of this final notice.

Marcus J. Molinaro,
Administrator.

[FR Doc. 2026-00651 Filed 1-14-26; 8:45 am]

BILLING CODE 4910-57-P